DEPARTMENT OF STATE

Memorandum for Global AIDS Coordinator

Delegation of Authority Number: 145-18.

Subject: Delegation of certain authority under the United States Leadership Against HIV/AIDS, Tuberculosis, and Malaria Act of 2003 and the Foreign Assistance Act of 1961, as amended.

By virtue of the authority vested in me by the Foreign Assistance Act of 1961, as amended, 22 U.S.C. 2151 et seq., section 1 of the State Department Basic Authorization Act, as amended, and Executive Order 12163, as amended, and (the presidential memorandum delegating to me “Certain Authority Under the United States Leadership Against HIV/AIDS, Tuberculosis, and Malaria Act of 2003”), section 1 of the State Department Delegation of Authority No. 145 of February 4, 1980 (45 FR 11655), as amended, is hereby amended by inserting at the end the following new subsection:

(p) To the Global AIDS Coordinator:

(1) the functions and authority conferred upon the President by sections 202(c), 305, and 313 of the United States Leadership Against HIV/AIDS, Tuberculosis, and Malaria Act of 2003 (Public Law 108-25), and by section 104A(e) of the Foreign Assistance Act of 1961, as amended by Pub. L. 108-25, to provide the specified reports to the Congress;

(2) the authority conferred upon the President by section 101 of Public Law 108-25 to establish a comprehensive, integrated, 5-year strategy to combat global HIV/AIDS and to submit to the appropriate congressional committees a report setting forth the strategy.”

This delegation of authority shall be published in the Federal Register.

Colin L. Powell,
Secretary of State, Department of State.

[FR Doc. 04-17404 Filed 7-29-04; 8:45 am]

BILLING CODE 4710-08-P